DEPARTMENT OF LABOR

Employment and Training Administration

[TA-W-37,346]

Enaid Sportswear, Inc., New York, New York; Notice of Termination of Investigation

Pursuant to section 221 of the Trade Act of 1974, an investigation was initiated on February 14, 2000, in response to a worker petition which was filed on behalf of workers at Enaid Sportswear, Inc., New York, New York.

The subject firm closed on September 30, 1999. The Department has been unable to locate principals of the firm on otherwise obtain information to reach a determination on worker eligibility. Consequently, further investigation in this case would serve no purpose, and the investigation has been terminated.

Signed at Washington, D.C. this 27th day of March 2000.
Grant D. Beale,
Program Manager, Division of Trade Adjustment Assistance.

[FR Doc. 00-8930 Filed 4-10-00; 8:45 am]

BILLING CODE 4510-30-M